ENVIRONMENTAL PROTECTION AGENCY

[ER-FRL-6615-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities aT (202) 564-7167.

An explanation of the ratings assigned to draft environmental impact statements (EISs) was published in Federal Register dated April 14, 2000 (65 FR 20157).

Draft EISs

ERP No. D-AFS-J65327-CO Rating EC2, Baylor Park Blowdown Project, Salvage and Treat Down and Damaged Timber, To Reduce Impact of Spruce Beetles, Implementation, White River National Forest, Sopris and Rifle Ranger Districts, Garfield, Mesa, and Pitkin Counties, CO.

Summary: EPA expressed environmental concerns about potential impacts from road construction on water quality, watershed health and wetlands.

ERP No. D-AFS-K39064-CA Rating LO, Mammoth Creek Revised Instream Flow Requirements, Implementation for Point of Measurement and Place of Use, Mammoth Lakes, Mono County, CA.

Summary: EPA has no objections to the proposed project.

ERP No. D-EPA-E90016-NC Rating NA, New Wilmington Ocean Dredged Material Disposal Site, Designation, Wilmington Harbor, North Carolina State Port and the Military Ocean Terminal (Sunny Point (MOTSU), NC.

Summary: EPA EISs are not subject to 309 review.

ERP No. D-FHW-C40152-NJ Rating EC2, NJ-52(1) Causeway (known as MacArthur Boulevard) Construction Project, between NJ-9 in Somers Point, Atlantic County to Bay Avenue in Ocean City City, Cape May County, Funding, COE Section 404 and 10 Permits, USCGD Permit, Atlantic and Cape May Counties, NJ.

Summary: EPA raised concerns with the project based on purpose and need and alternatives, wetlands, water quality, coastal zone, and cumulative impacts.

ERP No. D-FHW-C40153-NY Rating EC2, NY-22 Transportation Improvement, from I-684 to north of County Road 65, Doansburg Road, Construction, COE Section 404 Permit, Town of Southeast, Putnam County, NY.

Summary: EPA raised concerns with the project based on direct and growth induced impacts to water quality and the New York City Watershed.

ERP No. D-FHW-F40784-OH Rating EC2, OH-7 (LAW-7) Relocation, OH-7 and OH-527 to a point Northeast of Rome Township and OH-607 from East Huntington Bridge to an Interchange with proposed OH-7 and OH-775, Funding, Lawrence County, OH.

Summary: EPA expressed concern due to potential wetland impacts.

ERP No. D-FTA-F40390-MN Rating EC2, Northstar Transportation Corridor Project, Improvements from downtown Minneapolis to the St. Cloud area along Trunk Highway (TH) 10/47 and the Burlington Northern Santa Fe (BNSF) Railroad Transcontinental Route, Connecting the Hiawatha Light Rail Transit (LRT) Line at a Multi-Modal Station, Minneapolis/St. Paul (MSP) International.

Summary: EPA expressed concern for and requested additional information regarding; storm water management; wetland mitigation; air quality; and cumulative impact analysis.

ERP No. D-HUD-C85043-NY Rating EC2, 1105-1135 Warburton Avenue, River Club Apartment Complex Development and Operation, Funding, City of Yonkers, Westchester County, NY.

Summary: EPA expressed concerns regarding the draft EIS's lack of an Environmental Justice analysis as required by Executive Order 12898. EPA requested that the final EIS include an EJ analysis in order to ensure that EJ issues if identified would be addressed or mitigated.

ERP No. D-HUD-K89062-CA Rating EC2, North Hollywood Arts and Entertainment District Project, Construction and Operation, North Hollywood Redevelopment Project, City of Los Angeles, CA.

Summary: EPA expressed concerns regarding the information supporting the air quality conformity determination and requested that this information be provided in the final EIS.

ERP No. D-NOA-K91008-00 Rating EC2, Pelagic Fisheries of the Western Pacific Region, Fishery Management Plan, To Analyze Longline Fisheries, Commercial Troll and Recreational Troll Fisheries, Commercial Pelagic Handliner and Commercial Pole and Line Skipjack Fishery, Hawaii, American Samoa, Guam and Commonwealth of the Northern Mariana Island.

Summary: EPA expressed concerns regarding proposed changes to the plan and requested additional information on the Biological Opinion for sea turtles and the Hawaii longline fishery and the relationship between this comprehensive planning effort and similar ongoing or planned revisions to related fishery management plans in the Western Pacific Region and Pacific Coast.

ERP No. D-SFW-K64020-CA Rating EC2, Metro Air Park Habitat Conservation Plan, Issuance of an Incidental Take Permit, To Protect, Conserve and Enhance Fish, Wildlife and Plants and their Habitat, Natomas Basin, Sacramento County, CA.

Summary: EPA expressed concerns regarding cumulative impacts, compliance with Section 404 Wetland requirements, conformity with regional air quality plans, adequate and sound science, and species population viability. EPA recommended better integration with the Natomas Basin Habitat Conservation Planning and a commitment to planned growth which is town-centered, transit and pedestrian oriented, and has a greater mix of housing, commercial and retail uses that could significantly enhance the benefits of the Metro Air Park and Natomas Basin habitat conservation planning efforts.

ERP No. DB-NOA-B91017-00 Rating EC2, Atlantic Sea Scallop Fishery Management Plan (FMP), Updated Information, Framework Adjustment 14 to adjust the annual Amendment 7 day-at-sea allocation for 2001 and 2002 and to re-open portions of the Hudson Canyon and Virginia/North Carolina Areas for Scallop Fishing.

Summary: EPA had environmental concerns regarding the plan and requested additional information on yield, total allowable catch, observers, water quality, gear and vessel trip reports.

ERP No. DR-FTA-K40237-CA Rating LO, Orange County Centerline Project, Transportation Improvements, Revised Alternatives, Advanced Rail Transit in the Heart of Orange County, CA.

Summary: EPA found that the document adequately discussed the environmental impacts of the proposed project.

Final EISs

ERP No. F-AFS-F65027-MN. Little East Creek Fuel Reduction Project, Plan to Grant Access Across Federal Land to Non-Federal Landowners, Implementation, LaCroix Ranger District, Superior National Forest, Saint Louis County, MN.

Summary: EPA expressed lack of objections to the proposed project.

ERP No. F-AFS-L65289-00. Interior Columbia Basin Ecosystem Management Projects, Updated and New Information on Three Management Alternatives, Implementation, WA, OR, ID and MT.

Summary: No formal comment letter was sent to the preparing agency.

ERP No. F-FRC-F03008-00. Guardian Pipeline Project, Proposal to Construct and Operate an Interstate Natural Gas Pipeline that would extend from Joliet (Will County), IL and Ixonia (Jefferson County), WI.

Summary: EPA continues to express objections due to potential cumulative impacts and the lack of adequate mitigation for forested wetlands and upland forest impacts.

ERP No. F-UAF-J11018-WY. F. E. Warren Air Force Base Deactivation and Dismantlement of the Peacekeeper Missile System, To Comply with the Strategic Arms Reduction Treaty (START), Laramie, Platte and Goshen Counties, WY.

Summary: EPA had no additional comments on the FEIS.

Dated: February 13, 2001.
Joseph C. Montgomery,
Director, NEPA Compliance Division, Office of Federal Activities.

[FR Doc. 01-4000 Filed 2-15-01; 8:45 am]

BILLING CODE 6560-50-U